DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program) as required, by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2020, through August 31, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857.

The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Wendy M. Meichtry, Peoria, Illinois, Court of Federal Claims No: 20-0950V

2. Marilyn Sue Schmid, Orem, Utah, Court of Federal Claims No: 20-0951V

3. Dawn Allison, Canton, Ohio, Court of Federal Claims No: 20-0953V

4. Hannah Baker, Camden, South Carolina, Court of Federal Claims No: 20-0956V

5. Samuel Sterling, Davenport, Florida, Court of Federal Claims No: 20-0957V

6. Crystal Cervantez-Tkac, Denver, Colorado, Court of Federal Claims No: 20-0958V

7. Marla Miller, Palm Coast, Florida, Court of Federal Claims No: 20-0959V

8. Tracy Sprinkle, Kernersville, North Carolina, Court of Federal Claims No: 20-0960V

9. Pamela Flowers on behalf of A. R., Los Angeles, California, Court of Federal Claims No: 20-0961V

10. Sharon Sirkis, Palm City, Florida, Court of Federal Claims No: 20-0962V

11. Dennis Cashel, Arnold, Missouri, Court of Federal Claims No: 20-0963V

12. Joanne Garston, Boston, Massachusetts, Court of Federal Claims No: 20-0964V

13. Richard Knippschild, Sacramento, California, Court of Federal Claims No: 20-0965V

14. Gina Driscoll, Orlando, Florida, Court of Federal Claims No: 20-0966V

15. Regina Saliot on behalf of Richard Saliot, Honolulu, Hawaii, Court of Federal Claims No: 20-0967V

16. Reginald Reese on behalf of The Estate of Rodney Reese, Deceased, Atlanta, Georgia, Court of Federal Claims No: 20-0968V

17. Antoni Baluta, New York, New York, Court of Federal Claims No: 20-0970V

18. Tiffani Cuyler, Bedford, Texas, Court of Federal Claims No: 20-0971V

19. Eleanor Casebolt, Pinellas Park, Florida, Court of Federal Claims No: 20-0974V

20. Lynda Smith, Calhoun, Georgia, Court of Federal Claims No: 20-0976V

21. Carla Amor, Provo, Utah, Court of Federal Claims No: 20-0978V

22. Jeanette Lingafelt, Middletown, Delaware, Court of Federal Claims No: 20-0979V

23. Leila M. Hubbard on behalf of J. B. B., Seneca, South Carolina, Court of Federal Claims No: 20-0981V

24. Kathryn Martinez and Arthur Martinez on behalf of C. M., Austin, Texas, Court of Federal Claims No: 20-0982V

25. Abbie Dover, Atlanta, Georgia, Court of Federal Claims No: 20-0983V

26. Randy Richards, Gig Harbor, Washington, Court of Federal Claims No: 20-0984V

27. Amy Goode, Overland Park, Kansas, Court of Federal Claims No: 20-0985V

28. Lyndsay Randle, Forrest City, Arkansas, Court of Federal Claims No: 20-0986V

29. Dave Scruggs, Flower Mound, Texas, Court of Federal Claims No: 20-0988V

30. Gabrielle Natale, Weymouth, Massachusetts, Court of Federal Claims No: 20-0989V

31. Mark Alcantara, Carlsbad, California, Court of Federal Claims No: 20-0990V

32. Muhammad Jafary, Beckley, West Virginia, Court of Federal Claims No: 20-0991V

33. Phil E. Mullins, Evanston, Illinois, Court of Federal Claims No: 20-0992V

34. Tammy Davis, Rochester, New York, Court of Federal Claims No: 20-0994V

35. Scott Smith, Dallas, Texas, Court of Federal Claims No: 20-0995V

36. Ammar Halloum, Phoenix, Arizona, Court of Federal Claims No: 20-0997V

37. Jennifer Bolz, Oak Lawn, Illinois, Court of Federal Claims No: 20-0998V

38. Fetlework Yohannes Norvell, Wellesley Hills, Massachusetts, Court of Federal Claims No: 20-1001V

39. Carlos Diaz, Enfield, Connecticut, Court of Federal Claims No: 20-1003V

40. Edward Espinosa, San Diego, California, Court of Federal Claims No: 20-1004V

41. Benzion Zimmer, Brooklyn, New York, Court of Federal Claims No: 20-1005V

42. Alva Moffit, Philadelphia, Pennsylvania, Court of Federal Claims No: 20-1006V

43. Debbie Myers, Egg Harbor Township, New Jersey, Court of Federal Claims No: 20-1007V

44. Victor Johnson, Woodhaven, Michigan, Court of Federal Claims No: 20-1008V

45. Brenda Whipkey, Parma, Ohio, Court of Federal Claims No: 20-1015V

46. Gregory Yates, Colonial Heights, Virginia, Court of Federal Claims No: 20-1016V

47. Andrew Finneran, New York, New York, Court of Federal Claims No: 20-1017V

48. Donna Warren, Florence, Alabama, Court of Federal Claims No: 20-1018V

49. George Luhrmann, Boston, Massachusetts, Court of Federal Claims No: 20-1019V

50. Max Mayhew, New York, New York, Court of Federal Claims No: 20-1020V

51. Heidi Seiken, Centennial, Colorado, Court of Federal Claims No: 20-1021V

52. Demetra Dicembrino, Weston, Florida, Court of Federal Claims No: 20-1022V

53. Julie Dahlgard, Weston, Florida, Court of Federal Claims No: 20-1024V

54. Sharla Doucette, Pocatello, Idaho, Court of Federal Claims No: 20-1026V

55. Victor Haughton, Delafield, Wisconsin, Court of Federal Claims No: 20-1027V

56. Jeffrey Hoddick, Honolulu, Hawaii, Court of Federal Claims No: 20-1028V

57. Helena Johnson, Tell City, Indiana, Court of Federal Claims No: 20-1030V

58. Zuleika Aponte, Lacey, Washington, Court of Federal Claims No: 20-1031V

59. John Roper on behalf of J. R., Croton on the Hudson, New York, Court of Federal Claims No: 20-1032V

60. Stephanie Eckert, Springdale, Ohio, Court of Federal Claims No: 20-1035V

61. Thelma Andras, Raceland, Louisiana, Court of Federal Claims No: 20-1036V

62. Jennifer Arnold, Redding, California, Court of Federal Claims No: 20-1038V

63. Madeleine Kates, Williamsville, New York, Court of Federal Claims No: 20-1039V

64. Kendra Owen, Nashville, Tennessee, Court of Federal Claims No: 20-1041V

65. Michael W. Gladish, La Quinta, California, Court of Federal Claims No: 20-1042V

66. John Tisdel, Carmel, New York, Court of Federal Claims No: 20-1044V

67. Jodie Barrette, Green Bay, Wisconsin, Court of Federal Claims No: 20-1046V

68. Claudius Williams, Louisville, Kentucky, Court of Federal Claims No: 20-1048V

69. Hansaben Anand, Glenn Oaks, New York, Court of Federal Claims No: 20-1053V

70. Barbara J. Giddens, Fayetteville, North Carolina, Court of Federal Claims No: 20-1056V

71. Tracy Dawn McKay, Seattle, Washington, Court of Federal Claims No: 20-1057V

72. Linda Brantley-Karasinski, Clinton Charter Township, Michigan, Court of Federal Claims No: 20-1058V

73. Heather Calhoun on behalf of Z. C., Boston, Massachusetts, Court of Federal Claims No: 20-1059V

74. Diana Hopkins, Gaylord, Michigan, Court of Federal Claims No: 20-1060V

75. Monique Maccarone, Austin, Texas, Court of Federal Claims No: 20-1062V

76. Renae Fitzgerald, South Holland, Illinois, Court of Federal Claims No: 20-1064V

77. Peter Blaiwas, Boston, Massachusetts, Court of Federal Claims No: 20-1065V

78. Leigh Anne Hall, Memphis, Tennessee, Court of Federal Claims No: 20-1066V

79. Kristen Coons, Rochester, Minnesota, Court of Federal Claims No: 20-1067V

80. Taimur Shaikh, Champaign, Illinois, Court of Federal Claims No: 20-1069V

81. Vicki Hollingsworth, High Point, North Carolina, Court of Federal Claims No: 20-1070V

82. Nicole Arney, Boston, Massachusetts, Court of Federal Claims No: 20-1072V

83. Susan Sullivan, Boston, Massachusetts, Court of Federal Claims No: 20-1076V

84. Linda Schweder, Shelby Township, Michigan, Court of Federal Claims No: 20-1077V

85. Diane Bushemi, Chicago, Illinois, Court of Federal Claims No: 20-1083V

86. Stacy Nicole Willis, Southaven, Mississippi, Court of Federal Claims No: 20-1085V

87. Laura Papa, St. Charles, Illinois, Court of Federal Claims No: 20-1086V

88. Jennie Fields, Boston, Massachusetts, Court of Federal Claims No: 20-1087V

89. Kimberleigh Peet, Olathe, Kansas, Court of Federal Claims No: 20-1088V

90. Amy Bandolik, Vails Gate, New York, Court of Federal Claims No: 20-1090V

91. Sharon Miller, Chicago Heights, Illinois, Court of Federal Claims No: 20-1091V

92. Paula Johnson, San Antonio, Texas, Court of Federal Claims No: 20-1092V

93. Sylvia Rowe, Rochester, New York, Court of Federal Claims No: 20-1093V

94. Renee Clark Pierson on behalf of The Estate of David Pierson, Deceased, Metairie, Louisiana, Court of Federal Claims No: 20-1094V

95. Claudia Mercado, El Centro, California, Court of Federal Claims No: 20-1095V

96. Lori Kaiser, Boston, Massachusetts, Court of Federal Claims No: 20-1096V

97. Elenora Plavnik, Langhorne, Pennsylvania, Court of Federal Claims No: 20-1097V

98. Katelynn McGuire, Stafford, Texas, Court of Federal Claims No: 20-1098V

99. Stephen Peka, St. Cloud, Minnesota, Court of Federal Claims No: 20-1099V

100. John Banks, San Antonio, Texas, Court of Federal Claims No: 20-1100V

101. Maureena Walker, Blue Ash, Ohio, Court of Federal Claims No: 20-1101V

102. Kimberly Wirtz, Olympia, Washington, Court of Federal Claims No: 20-1103V

103. Nakia Copeland, Boston, Massachusetts, Court of Federal Claims No: 20-1104V

104. Stephanie Scott, New York, New York, Court of Federal Claims No: 20-1105V

105. Mario Castillo, Rich Creek, Virginia, Court of Federal Claims No: 20-1106V

106. Ashley Gibson Long, Dublin, Georgia, Court of Federal Claims No: 20-1107V

107. Crystal Smith, Aiken, South Carolina, Court of Federal Claims No: 20-1109V

108. Evan Hirsch, Waupaca, Wisconsin, Court of Federal Claims No: 20-1110V

[FR Doc. 2020-20850 Filed 9-21-20; 8:45 am]

BILLING CODE 4165-15-P